DEPARTMENT OF COMMERCE

International Trade Administration

A-570-867

Automotive Replacement Glass Windshields from the People's Republic of China: Initiation of Changed Circumstances Review

AGENCY: Import Administration, International Trade Administration, Department of Commerce.

SUMMARY: The Department of Commerce has received information sufficient to warrant initiation of a changed circumstances review of the antidumping order on Automotive Replacement Glass (“ARG”) Windshields from the People's Republic of China (“PRC”). The review will be conducted to determine whether Shenzhen CSG Automotive Glass Co., Ltd. (“Shenzhen CSG”) is the successor-in-interest to Shenzhen Benxun AutoGlass Co., Ltd. (“Shenzhun Benxun”).

EFFECTIVE DATE: March 8, 2004.

FOR FURTHER INFORMATION CONTACT: Jon Freed or Robert Bolling, Import Administration, International Trade Administration, U.S. Department of Commerce, 14th Street and Constitution Avenue, N.W., Washington, D.C. 20230; telephone (202) 482-3818 or (202) 482-3434, respectively.

SUPPLEMENTARY INFORMATION:

Background

On April 4, 2002, the Department of Commerce (“the Department”) published in the Federal Register the antidumping duty order on automotive replacement glass (“ARG”) windshields from the PRC. See Antidumping Duty Order: Automotive Replacement Glass Windshields from the People's Republic of China, 67 FR 16087 (April 4, 2002). On April 7, 2003, the Department published a notice of opportunity to request an administrative review of the antidumping duty order on ARG windshields from the PRC for the period September 19, 2001 through March 31, 2003. See Antidumping or Countervailing Duty Order, Finding, or Suspended Investigation; Opportunity to Request Administrative Review, 68 FR 16761 (April 7, 2003). On April 30, 2003, the Department received a letter on behalf of Shenzhen CSG Automotive Glass Co., Ltd. (“Shenzhen CSG”) requesting an administrative review of its sales and entries of subject merchandise. In its request, Shenzhen CSG indicated that it had undergone a name change, and that it had formerly been known as Shenzhen Benxun AutoGlass Co., Ltd. (“Shenzhen Benxun”). Shenzhen Benxun was a respondent in the original investigation of this case. The request for review did not include a request for a changed circumstance review to determine whether Shenzhen CSG is in fact a successor in interest to Shenzhen Benxun. Further, the Department did not advise Shenzhen CSG or Shenzhen Benxun that a successor in interest determination must be made before Shenzhen CSG would be entitled to Shenzhen Benxun's cash deposit rate. On May 21, 2003, in response to timely requests from respondents subject to the order on ARG windshields from the PRC, the Department published in the Federal Register a notice of initiation of this antidumping duty administrative review of sales by ten respondents, including “Shenzhen CSG Automotive Glass Co., Ltd. (formerly known as Shenzhen Benxun AutoGlass Co., Ltd.)” of ARG windshields from the PRC for the period September 19, 2001 through March 31, 2003. See Initiation of Antidumping and Countervailing Duty Administrative Reviews and Request for Revocation in Part, 68 FR 27781 (May 21, 2003) (“Initiation Notice”).

On June 3, 2003, the Department issued antidumping duty questionnaires to the respondents, including “Shenzhen CSG Automotive Glass Co., Ltd. (formerly known as Shenzhen Benxun AutoGlass Co., Ltd.)”. On July 8, 2003, we received a letter from “Shenzhen CSG Automotive Glass Co., Ltd. (formerly known as Shenzhen Benxun AutoGlass Co., Ltd.)” withdrawing its request for an administrative review of sales and entries of subject merchandise exported by it and covered by the antidumping duty order on ARG windshields from the PRC. On September 8, 2003, the Department published in the Federal Register a notice of partial rescission of the administrative review on ARG windshields from the PRC, which included a rescission of the administrative review of sales and entries from “Shenzhen CSG Automotive Glass Co., Ltd. (formerly known as Shenzhen Benxun AutoGlass Co., Ltd.)”. On December 29, 2003, the Department instructed Customs and Border Protection (“Customs”) to liquidate entries from Shenzhen Benxun at its cash deposit rate of 9.84%, but to liquidate entries from Shenzhen CSG at the China-wide rate of 124.5% because the Department never had an opportunity to determine whether Shenzhen CSG is a successor in interest to Shenzhen Benxun. On January 12, 2004, the Department received a letter on behalf of “Shenzhen CSG Automotive Glass Co., Ltd. (formerly known as Shenzhen Benxun AutoGlass Co., Ltd.)” requesting that the Department amend instructions sent to Customs that direct Customs to liquidate all of Shenzhen CSG's entries at the China wide-rate. Shenzhen CSG asserts that Shenzhen Benxun changed its name to Shenzhen CSG and that entries from Shenzhen CSG should be entitled to Shenzhen Benxun's cash deposit rate.

Scope

The products covered by this review are ARG windshields, and parts thereof, whether clear or tinted, whether coated or not, and whether or not they include antennas, ceramics, mirror buttons or VIN notches, and whether or not they are encapsulated. ARG windshields are laminated safety glass (i.e., two layers of (typically float) glass with a sheet of clear or tinted plastic in between (usually polyvinyl butyral)), which are produced and sold for use by automotive glass installation shops to replace windshields in automotive vehicles (e.g., passenger cars, light trucks, vans, sport utility vehicles, etc.) that are cracked, broken or otherwise damaged.

ARG windshields subject to this review are currently classifiable under subheading 7007.21.10.10 of the Harmonized Tariff Schedules of the United States (HTSUS). Specifically excluded from the scope of this investigation are laminated automotive windshields sold for use in original assembly of vehicles. While HTSUS subheadings are provided for convenience and Customs purposes, our written description of the scope of this review is dispositive.

Initiation of Antidumping Duty Changed Circumstances Review

Pursuant to section 751(b)(1) of the Act and 351.216 of the Department's regulations, the Department will conduct a changed circumstances review upon receipt of information concerning, or a request from an interested party for a review of, an antidumping duty finding which shows changed circumstances sufficient to warrant a review of the order. The information submitted by Shenzhen CSG claiming to show that Shenzhen CSG is the successor-in-interest to Shenzhen Benxun shows changed circumstances sufficient to warrant a review. See 19 CFR 351.216(c) (2003).

In accordance with section 751(b) of the Tariff Act and 351.216 of the Department's regulations, the Department is initiating a changed circumstances review to determine whether Shenzhun CSG is the successor in interest to Shenzhun Benxun. In antidumping duty changed circumstances reviews involving a successor-in-interest determination, the Department typically examines several factors including, but not limited to, changes in: (1) management, (2) organizational structure, (3) ownership, (4) production facilities, (5) supplier relationships, and (6) customer base. See, e.g., Stainless Steel Sheet and Strip in Coils From the Republic of Korea: Notice of Preliminary Results of Changed Circumstances Antidumping Duty Administrative Review, 66 FR 67513, 67515 (December 31, 2001) and Brass Sheet and Strip from Canada; Final Results of Changed Circumstances Review, 57 FR 20460, 20461 (May 13, 1992). While none of these factors is dispositive, the Department will generally consider the new company to be the successor to the previous company if its resulting operation is similar to that of the predecessor. See Industrial Phosphoric Acid from Israel; Final Results of Antidumping Duty Changed Circumstances Review, 59 FR 6944, 6946 (February 14, 1994). Thus, if evidence demonstrates that, with respect to the production and sale of the subject merchandise, the new company operates as the same entity as the former company, the Department will treat the new company as the successor-in-interest to the predecessor. See Fresh and Chilled Atlantic Salmon from Norway: Final Results of Changed Circumstances Antidumping Duty Administrative Review, 64 FR 9979, 9980 (March 1, 1999).

The Department will publish in the Federal Register a notice of preliminary results of antidumping duty changed circumstances review, in accordance with section 351.216(c), and 351.221(b)(4) and 351.221(c)(3)(i) of the Department's regulations. This notice will set forth the factual and legal conclusions upon which our preliminary results are based and a description of any action proposed based on those results. Pursuant to 19 CFR 351.221(b)(4)(ii), interested parties will have an opportunity to comment on the preliminary results of review. In accordance with 19 CFR 351.216(e), the Department will issue the final results of its antidumping duty changed circumstances review not later than 270 days after the date of publication of this notice.

During the course of this changed circumstances review, we will not change any cash deposit instructions on the merchandise subject to this review. Any changes if appropriate, will be made pursuant to the final results of this review.

This notice of initiation is in accordance with sections 751(b)(1) of the Act and section 351.221(b)(1) of the Department's regulations.

Dated: March 1, 2004.
James J. Jochum,
Assistant Secretary for Import Administration.

[FR Doc. 04-5140 Filed 3-5-04; 8:45 am]

BILLING CODE 3510-DS-S